SOCIAL SECURITY ADMINISTRATION

[Docket No: SSA-2015-0052]

Agency Information Collection Activities: Proposed Request and Comment Request the Social Security Administration (SSA) Publishes a List of Information Collection Packages Requiring Clearance by the Office of Management and Budget (OMB) in Compliance With Public Law 104-13, the Paperwork Reduction Act of 1995, effective October 1, 1995. This Notice Includes Revisions and Extensions of OMB-Approved Information Collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB), Office of Management and Budget, Attn: Desk Officer for SSA, Fax: 202-395-6974, Email address: OIRA_Submission@omb.eop.gov.

(SSA), Social Security Administration, OLCA, Attn: Reports Clearance Director, 3100 West High Rise, 6401 Security Blvd., Baltimore, MD 21235, Fax: 410-966-2830, Email address: OR.Reports.Clearance@ssa.gov. Or you may submit your comments online through www.regulations.gov, referencing Docket ID Number [SSA-2015-0052].

I. The information collections below are pending at SSA. SSA will submit them to OMB within 60 days from the date of this notice. To be sure we consider your comments, we must receive them no later than November 3, 2015. Individuals can obtain copies of the collection instruments by writing to the above email address.

1. The Ticket to Work and Self-Sufficiency Program—20 CFR 411—0960-0644. SSA's Ticket to Work (TTW) Program transitions Social Security Disability Insurance (SSDI) and Supplemental Security Income (SSI) recipients toward independence by allowing them to receive Social Security payments while maintaining employment under the auspices of the program. SSA uses service providers, called Employment Networks (ENs), to supervise participant progress through the stages of TTW Program participation, such as job searches and interviews, progress reviews, and changes in ticket status. ENs can be private for-profit and nonprofit organizations, as well as state vocational rehabilitation agencies (VRs). SSA and the ENs utilize the TTW program manager to operate the TTW Program and exchange information about participants. For example, the ENs use the program manager to provide updates on tasks such as selecting a payment system or requesting payments for helping the beneficiary achieve certain work goals. Since the ENs are not PRA-exempt, the multiple information collections within the TTW program manager require OMB approval, and we clear them under this information collection request (ICR). Most of the categories of information in this ICR are necessary for SSA to: (1) Comply with the Ticket to Work legislation; and (2) provide proper oversight of the program. SSA collects this information through several modalities, including forms, electronic exchanges, and written documentation. The respondents are the ENs or state VRs, as well as SSDI beneficiaries, and blind or disabled SSI recipients working under the auspices of the TTW Program.

Type of Collection: Revision of an OMB-approved information collection.

Modality of completion | Number of respondents | Frequency of response | Average burden per response (minutes) | Estimated total annual burden (hours)
a) 20 CFR 411.140(d)(2)—Interactive Voice Recognition Telephone | 6,428 | 1 | 2.5 | 268
a) 20 CFR 411.140(d)(2)—Portal | 25,713 | 1 | 1.25 | 536
a) 20 CFR 411.140(d)(3)—Virtual Job Fair Registration-Employment Networks | 500 | 1 | 10 | 83
a) 20 CFR 411.140(d)(3); 411.325(a); 411.150(b)(3)—SSA-1365 | 948 | 1 | 15 | 237
a) 20 CFR 411.140(d)(3); 411.325(a); 411.150(b)(3)—SSA-1365 Portal | 3,792 | 1 | 11 | 695
a) 20 CFR 411.140(d)(3); 411.325(a); 411.150(b)(3)—SSA-1370 | 1,956 | 1 | 60 | 1,956
a) 20 CFR 411.140(d)(3); 411.325(a); 411.150(b)(3)—SSA-1370 Portal | 5,868 | 1 | 10 | 978
a) 20 CFR 411.166; 411.170(b)—Electronic File Submission | 40,324 | 1 | 5 | 3,360
b) 20 CFR 411.145; 411.325 | 2,494 | 1 | 15 | 624
b) 20 CFR 411.145; 411.325—Portal | 7,481 | 1 | 11 | 1,372
b) 20 CFR 411.535(a)(1)(iii)—Data Sharing/Portal | 8,505 | 1 | 5 | 709
c) 20 CFR 411.192(b) & (c) | 6 | 1 | 30 | 3
c) 20 CFR 411.200(b)—SSA-1375 | 112,362 | 1 | 15 | 28,091
c) 20 CFR 411.200(b)—Portal | 64,824 | 1 | 5 | 5,402
c) 20 CFR 411.210(b) | 41 | 1 | 30 | 21
c) 20 CFR 411.200(b) Wise Webinar Registration Page | 24,000 | 1 | 3 | 1,200
c) 20 CFR 411.200(b) Virtual Job Fair Registration | 9,000 | 1 | 10 | 1,500
d) 20 CFR 411.365; 411.505; 411.515 | 6 | 1 | 10 | 1
e) 20 CFR 411.325(d); 411.415 | 1* | 1 | 480 | 8
f) 20 CFR 411.575—SSA-1389; SSA-1391; SSA-1393; SSA-1396; SSA-1398; SSA-1399 | 2,805 | 1 | 40 | 1,870
f) 20 CFR 411.575—Portal | 42,075 | 1 | 22 | 15,427
f) 20 CFR 411.575—Automatic Payments | 11,220 | 1 | 0 | 0
f) 20 CFR 411.560—SSA-1401 | 100 | 1 | 20 | 33
g) 20 CFR 411.325(f) | 1,371 | 1 | 45 | 1,028
h) 20 CFR 411.435; 411.615; 411.625 | 2 | 1 | 120 | 4
i) 20 CFR 411.320—SSA-1394 | 52 | 1 | 10 | 9
i) 20 CFR 411.320—SSA-1394 Portal | 158 | 1 | 5 | 13
Totals | 372,032 |  |  | 65,428
* (None received in 2012, 2013, 2014)

2. Representative Payment Policies and Administrative Procedures for Imposing Penalties for False or Misleading Statements or Withholding of Information—0960-0740. This information collection request comprises several regulation sections that provide additional safeguards for Social Security beneficiaries' whose representative payees receive their payment. SSA requires representative payees to notify them of any event or change in circumstances that would affect receipt of benefits or performance of payee duties. SSA uses the information to determine continued eligibility for benefits, the amount of benefits due and if the payee is suitable to continue servicing as payee. The respondents are representative payees who receive and use benefits on behalf of Social Security beneficiaries.

Type of Request: Extension of an OMB-approved information collection.

Modality of completion (regulation citation) | Number of respondents | Frequency of response | Average burden per response (minutes) | Estimated total annual burden (hours)
404.2035(d)—Paper/Mail | 28,600 | 1 | 5 | 2,383
404.2035(d)—Office interview/Intranet | 543,400 | 1 | 5 | 45,283
404.2035(f)—Paper/Mail | 286 | 1 | 5 | 24
404.2035(f)—Office interview/Intranet | 5,434 | 1 | 5 | 453
416.635(d)—Paper/Mail | 15,600 | 1 | 5 | 1,300
416.635(d)—Office interview/Intranet | 286,400 | 1 | 5 | 23,867
416.635(f)—Paper/Mail | 156 | 1 | 5 | 13
416.635(f)—Office interview/Intranet | 2,964 | 1 | 5 | 247
Totals | 882,840 |  |  | 73,570

II. SSA submitted the information collections below to OMB for clearance. Your comments regarding the information collections would be most useful if OMB and SSA receive them 30 days from the date of this publication. To be sure we consider your comments, we must receive them no later than October 5, 2015. Individuals can obtain copies of the OMB clearance packages by writing to OR.Reports.Clearance@ssa.gov.

1. Statement of Employer—20 CFR 404.801-404.803—0960-0030. When workers report they were paid wages but cannot provide proof of those earnings, and the wages do not appear in SSA's records of earnings, SSA uses Form SSA-7011-F4 to document the alleged wages. Specifically, the agency uses the form to resolve discrepancies in the individual's Social Security earnings record and to process claims for Social Security benefits. We only send Form SSA-7011-F4 to employers if we are unable able to locate the earnings information within our own records. The respondents are employers who can verify wage allegations made by wage earners.

Type of Request: Revision of an OMB-approved information collection.

Modality of completion | Number of respondents | Frequency of response | Average burden per response (minutes) | Estimated total annual burden (hours)
SSA-7011-F4 | 500 | 1 | 20 | 167

2. Substitution of Party Upon Death of Claimant—20 CFR 404.957(c)(4) and 416.1457(c)(4)—0960-0288. An administrative law judge (ALJ) may dismiss a request for a hearing on a pending claim of a deceased individual for Social Security benefits or SSI payments. Individuals who believe the dismissal may adversely affect them may complete Form HA-539, which allows them to request to become a substitute party for the deceased claimant. The ALJs and the hearing office support staff use this information from the HA-539 to: (1) Maintain a written record of request; (2) establish the relationship of the requester to the deceased claimant; (3) determine the substituted individual's wishes regarding an oral hearing or decision on the record; and (4) admit the data into the claimant's official record as an exhibit. The respondents are individuals requesting to be a substitute party for a deceased claimant.

Type of Request: Revision of an OMB-approved information collection.

Modality of completion | Number of respondents | Frequency of response | Average burden per response (minutes) | Estimated total annual burden (hours)
HA-539 | 4,000 | 1 | 5 | 333

3. Claimant Statement about Loan of Food or Shelter; Statement about Food or Shelter Provided to Another—20 CFR 416.1130-416.1148—0960-0529. SSA bases an SSI claimant or recipient's eligibility on need, as measured by the amount of income an individual receives. Per our calculations, income includes other people providing in-kind support and maintenance in the form of food and shelter to SSI applicants or recipients. SSA uses Forms SSA-5062 and SSA-L5063 to obtain statements about food or shelter provided to SSI claimants or recipients. SSA uses this information to determine whether food or shelters are bona fide loans or income for SSI purposes. This determination may affect claimants' or recipients' eligibility for SSI as well as the amounts of their SSI payments. The respondents are claimants and recipients for SSI payments, and individuals who provide loans of food or shelter to them.

Type of Request: Revision of an OMB-approved information collection.

Modality of completion | Number of respondents | Frequency of response | Average burden per response (minutes) | Estimated total annual burden (hours)
SSA-5062 Paper form | 34,752 | 1 | 10 | 5,792
SSA-L5063 Paper form | 34,752 | 1 | 10 | 5,792
SSA-5062 Modernized SSI Claims System (MSSICS) | 34,752 | 1 | 10 | 5,792
SSA-L5063 MSSICS | 34,752 | 1 | 10 | 5,792
Total | 139,008 |  |  | 3,168

4. Representative Payee Report of Benefits and Dedicated Account—20 CFR 416.546, 416.635, 416.640, 416.665—0960-0576. SSA requires representative payees (RPs) to submit a written report accounting for the use of money paid to Social Security or SSI recipients, and to establish and maintain a dedicated account for these payments. SSA uses Form SSA-6233 to: (1) Ensure the RPs use the payments for the recipient's current maintenance and personal needs; and (2) confirm the expenditures of funds from the dedicated account remain in compliance with the law. Respondents are RPs for SSI and Social Security recipients.

Type of Request: Revision of an OMB-approved information collection.

Modality of completion | Number of respondents | Frequency of response | Average burden per response (minutes) | Estimated total annual burden (hours)
SSA-6233 | 30,000 | 1 | 20 | 10,000

5. Application for Circuit Court Law—20 CFR 404.985 & 416.1458—0960-0581. Persons claiming an acquiescence ruling (AR) would change SSA's prior determination or decision must submit a written readjudication request with specific information. SSA reviews the information in the requests to determine if the issues stated in the AR pertain to the claimant's case, and if the claimant is entitled to readjudication. If readjudication is appropriate, SSA considers the issues the AR covers. Any new determination or decision is subject to administrative or judicial review as specified in the regulations. Respondents are claimants for Social Security benefits and SSI payments who request readjudication. This information collection request is for the information claimants must provide to request readjudication.

Type of Request: Extension of an OMB-approved information collection.

Modality of completion | Number of respondents | Frequency of response | Average burden per response (minutes) | Estimated total annual burden (hours)
AR-based Readjudication Requests | 10,000 | 1 | 17 | 2,833

6. Certification of Prisoner Identity Information—20 CFR 422.107—0960-0688. Inmates of Federal, State, or local prisons may need a Social Security card as verification of their Social Security number for school or work programs, or as proof of employment eligibility upon release from incarceration. Before SSA can issue a replacement Social Security card, applicants must show SSA proof of their identity. People who are in prison for an extended period typically do not have current identity documents. Therefore, under formal written agreement with the correctional institution, SSA allows prison officials to verify the identity of certain incarcerated U.S. citizens who need replacement Social Security cards. Information prison officials provide comes from the official prison files, sent on correctional facility letterhead. SSA uses this information to establish the applicant's identity in the replacement Social Security card process. The respondents are prison officials who certify the identity of prisoners applying for replacement Social Security cards.

Type of Request: Extension of an OMB-approved Information Collection.

Modality of completion | Number of respondents | Frequency of response | (Number of responses) | Average burden per response (minutes) | Estimated total annual burden (hours)
Verification of Prisoner Identity Statements | 1,000 | 200 | (200,000) | 3 | 10,000

Dated: September 1, 2015.
Naomi R. Sipple,
Reports Clearance Officer, Social Security Administration.

[FR Doc. 2015-21967 Filed 9-3-15; 8:45 am]

BILLING CODE 4191-02-P